DEPARTMENT OF COMMERCE

National Oceanic and Atmospheric Administration

[RTID 0648-XD780]

Gulf of Mexico Fishery Management Council; Public Meeting

AGENCY: National Marine Fisheries Service (NMFS), National Oceanic and Atmospheric Administration (NOAA), Commerce.

ACTION: Notice of a closed meeting.

SUMMARY: The Gulf of Mexico Fishery Management Council will hold a CLOSED SESSION webinar of its Law Enforcement Technical Committee (LETC).

DATES: The webinar will convene on Monday, March 25, 2024, from 11 a.m. to 12 p.m., EDT (10 a.m.-11 p.m. CDT).

ADDRESSES: The meeting will be a CLOSED SESSION webinar only.

Council address: Gulf of Mexico Fishery Management Council, 4107 W Spruce Street, Suite 200, Tampa, FL 33607; telephone: (813) 348-1630.

FOR FURTHER INFORMATION CONTACT: Dr. Assane Diagne, Economist, Gulf of Mexico Fishery Management Council; assane.diagne@gulfcouncil.org; telephone: (813) 348-1630.

SUPPLEMENTARY INFORMATION: The following items of discussion are on the agenda, though agenda items may be addressed out of order and any changes will be noted on the Council's website when possible.

Monday, March 25, 2024; 11 a.m.-12 p.m., EDT

The webinar meeting will be in a CLOSED SESSION from 11 a.m. to 12 p.m. EDT with introductions and review of nominations for the 2023 Office/Team of the Year Award.

—Meeting Adjourns

The Agenda is subject to change, and the latest version along with other meeting materials will be posted on www.gulfcouncil.org.

The LETC consists of principal law enforcement officers in each of the Gulf States, as well as the NOAA Office of Law Enforcement, U.S. Fish and Wildlife Service, the U.S. Coast Guard, and the NOAA Office of General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take action to address the emergency.

Authority: 16 U.S.C. 1801 et seq.

Dated: March 4, 2024.
Rey Israel Marquez,
Acting Deputy Director, Office of Sustainable Fisheries, National Marine Fisheries Service.

[FR Doc. 2024-04924 Filed 3-7-24; 8:45 am]

BILLING CODE 3510-22-P